DEPARTMENT OF HOMELAND SECURITY

Office of the National Protection and Programs Directorate; Submission for Extension of a Currently Approved Information Collection Request

AGENCY: Cyber Security and Communications Division, National Communications System, Office of the National Protection and Programs Directorate, Department of Homeland Security. (Telecommunications Service Priority (TSP) System).

ACTION: Notice; 60-day notice request for comments.

SUMMARY: The Department of Homeland Security (DHS) invites the general public and other federal agencies the opportunity to comment on approved information collection request (ICR) OMB 1670-0005, Telecommunications Service Priority (TSP) System. As required by the Paperwork Reduction Act of 1995, (Pub. L. 104-13, 44 U.S.C. chapter 35) as amended by the Clinger-Cohen Act (Pub. L. 104-106), DHS is soliciting comments for the approved information collection request.

DATES: Written comments should be received on or before June 11, 2007 to be assured consideration.

ADDRESSES: Interested persons are invited to submit written comments on the proposed information collection to the Office of Information and Regulatory Affairs, Office of Management and Budget. Comments should be forwarded to National Communication System, Deborah Bea, Program Manager, P.O. Box 4502, Arlington, VA 22204, Phone 703-607-4933, Fax 703-607-4937 or e-mail tsp@ncs.gov.

FOR FURTHER INFORMATION CONTACT: Interested persons are invited to submit written comments on the proposed information collection to the Office of Information and Regulatory Affairs, Office of Management and Budget. Comments should be addressed to Nathan Lesser, Desk Officer, Department of Homeland Security/NPPD, and sent via electronic mail to oira_submission@omb.eop.gov or faxed to (202) 395-6974.

SUPPLEMENTARY INFORMATION: Direct all written comments to both the Department of Homeland Security and the Office of Information and Regulatory Affairs at the above addresses. A copy of this ICR, with applicable supporting documentation, may be obtained by calling the Paperwork Reduction Act Contact listed above.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, National Protection and Programs, Cyber Security and Communications Division, National Communications System.

Title: Telecommunications Service Priority (TSP) System.

OMB Number: 1670-0005.

Frequency: On occasion.

Affected Public: Individuals or households; businesses or other for-profit; not-for-profit institutions; State, local or tribal government; foreign government.

Estimated Number of Respondents: 37.

Estimated Time Per Respondent:

SF314: .05 Minutes.

SF315: 1.25 Hours.

SF317: 3.0 Hours.

SF318: .05 Hours.

SF319: 8.0 Hours.

Total Burden Hours: 2,762.

Total Burden Cost: (Capital/startup): $0.

Total Burden Cost: (Operating/maintaining): $205,500 annually.

Description: The Telecommunications Service Priority (TSP) System provide telecommunications service vendors a means of identifying the services that should be restored or provisioned first in the event of an emergency or crisis; and the legal protection giving a preference to certain users over others. This critical aspect of the TSP program benefits government at all levels as well as the general public.

Charlie Church,
Chief Information Officer, National Protection and Programs Directorate, Department of Homeland Security.

[FR Doc. E7-6783 Filed 4-10-07; 8:45 am]

BILLING CODE 4410-10-P